SURFACE TRANSPORTATION BOARD

60-Day Notice of Intent To Seek Extension of Approval: Petitions for Declaratory Order and Petitions for Relief Not Otherwise Specified

AGENCY: Surface Transportation Board.

ACTION: Notice and request for comments.

SUMMARY: As required by the Paperwork Reduction Act of 1995 (PRA), the Surface Transportation Board (STB or Board) gives notice of its intent to seek approval from the Office of Management and Budget (OMB) for extensions of the collections regarding petitions for declaratory order and petitions for relief not otherwise specified, as described below.

DATES: Comments on these information collections should be submitted by July 11, 2023.

ADDRESSES: Direct all comments to Chris Oehrle, Surface Transportation Board, 395 E Street SW, Washington, DC 20423-0001, or to PRA@stb.gov. When submitting comments, please refer to “Paperwork Reduction Act Comments, Petitions for Declaratory Orders and Petitions for Relief Not Otherwise Specified.” For further information regarding this collection, contact Mike Higgins at (866) 254-1792 (toll-free) or 202-245-0238, or by emailing rcpa@stb.gov. Assistance for the hearing impaired is available through the Federal Information Relay Service (FIRS) at 1-800-877-8339.

SUPPLEMENTARY INFORMATION: For each collection, comments are requested concerning: (1) the accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collections

Collection Number 1

Title: Petitions for declaratory order.

OMB Control Number: 2140-0031.

STB Form Number: None.

Type of Review: Extension without change.

Respondents: Affected shippers, railroads, communities, and other stakeholders that choose to seek a declaratory order from the Board to terminate a controversy or remove uncertainty.

Number of Respondents: Approximately eight.

Estimated Time per Response: 180 hours.

Frequency: On occasion. In calendar years 2020-2022, approximately 12 petitions for declaratory order were filed with the Board per year.

Total Burden Hours (annually including all respondents): 2,160 hours (estimated hours per petition (180) × total number of petitions (12)).

Total “Non-hour Burden” Cost: None identified. Filings are submitted electronically to the Board.

Needs and Uses: Under 5 U.S.C. 554(e) and 49 U.S.C. 1321, the Board may issue a declaratory order to terminate a controversy or remove uncertainty. Because petitions for declaratory order can encompass a broad range of issues and types of requests, the Board does not prescribe specific instructions for their filing. The collection by the Board regarding petitions for declaratory order that parties choose to file enables the Board to meet its statutory duty to regulate the rail industry.

Collection Number 2

Title: Petitions for relief not otherwise provided.

OMB Control Number: 2140-0030.

STB Form Number: None.

Type of Review: Extension without change.

Respondents: Affected shippers, railroads, communities, and other stakeholders that seek to address issues under the Board's jurisdiction that are not otherwise specifically provided for under the Board's other regulatory provisions.

Number of Respondents: Approximately four.

Estimated Time per Response: 25 hours.

Frequency: On occasion. In calendar years 2020-2022, approximately four petitions of this type were filed with the Board per year.

Total Burden Hours (annually including all respondents): 100 hours (estimated hours per petition (25) × total number of petitions (4)).

Total “Non-Hour Burden” Cost: None identified. Filings are submitted electronically to the Board.

Needs and Uses: Under 49 U.S.C. 1321 and 49 CFR part 1117 (the Board's catch-all petition provision), shippers, railroads, and the public in general may seek relief (such as waiver of the Board's regulations) not otherwise specifically provided for under the Board's other regulatory provisions. Under section 1117.1, such petitions should contain three items: (a) a short, plain statement of jurisdiction, (b) a short, plain statement of petitioner's claim, and (c) request for relief. The collection by the Board of these petitions that parties choose to file enables the Board to more fully meet its statutory duty to regulate the rail industry.

The Board makes this submission because, under the PRA, a Federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), Federal agencies are required to provide, prior to an agency's submitting a collection to OMB for approval, a 60-day notice and comment period through publication in the Federal Register concerning each proposed collection of information, including each proposed extension of an existing collection of information.

Dated: May 9, 2023.
Kenyatta Clay,
Clearance Clerk.

[FR Doc. 2023-10199 Filed 5-11-23; 8:45 am]

BILLING CODE 4915-01-P